DEPARTMENT OF ENERGY

Federal Energy Regulatory Commission

Combined Notice of Filings #1

Take notice that the Commission received the following electric rate filings:

Docket Numbers: ER18-531-000.

Applicants: NorthWestern Corporation.

Description: § 205(d) Rate Filing: SA 305 9th Rev—NITSA with Stillwater Mining to be effective 3/1/2018.

Filed Date: 12/22/17.

Accession Number: 20171222-5253.

Comments Due: 5 p.m. ET 1/12/18.

Docket Numbers: ER18-532-000.

Applicants: NorthWestern Corporation.

Description: § 205(d) Rate Filing: SA 591 6th Rev—NITSA with Benefits Health System to be effective 3/1/2018.

Filed Date: 12/22/17.

Accession Number: 20171222-5254.

Comments Due: 5 p.m. ET 1/12/18.

Docket Numbers: ER18-533-000.

Applicants: Tait Electric Generating Station, LLC.

Description: Baseline eTariff Filing: Application for Market-Based Rate Authorization to be effective 12/31/9998.

Filed Date: 12/26/17.

Accession Number: 20171226-5001.

Comments Due: 5 p.m. ET 1/16/18.

Docket Numbers: ER18-534-000.

Applicants: Montpelier Generating Station, LLC.

Description: Baseline eTariff Filing: Application for Market-Based Rate Authorization to be effective 12/31/9998.

Filed Date: 12/26/17.

Accession Number: 20171226-5002.

Comments Due: 5 p.m. ET 1/16/18.

Docket Numbers: ER18-535-000.

Applicants: Yankee Street, LLC.

Description: Baseline eTariff Filing: Application for Market-Based Rate Authorization to be effective 12/31/9998.

Filed Date: 12/26/17.

Accession Number: 20171226-5003.

Comments Due: 5 p.m. ET 1/16/18.

Docket Numbers: ER18-536-000.

Applicants: O.H. Hutchings CT, LLC.

Description: Baseline eTariff Filing: Application for Market-Based Rate Authorization to be effective 12/31/9998.

Filed Date: 12/26/17.

Accession Number: 20171226-5004.

Comments Due: 5 p.m. ET 1/16/18.

Docket Numbers: ER18-537-000.

Applicants: Monument Generating Station, LLC.

Description: Baseline eTariff Filing: Application for Market-Based Rate Authorization to be effective 12/31/9998.

Filed Date: 12/26/17.

Accession Number: 20171226-5005.

Comments Due: 5 p.m. ET 1/16/18.

Docket Numbers: ER18-538-000.

Applicants: Sidney, LLC.

Description: Baseline eTariff Filing: Application for Market-Based Rate Authorization to be effective 12/31/9998.

Filed Date: 12/26/17.

Accession Number: 20171226-5006.

Comments Due: 5 p.m. ET 1/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2017.
Nathaniel J. Davis, Sr.,
Deputy Secretary.

[FR Doc. 2017-28272 Filed 12-29-17; 8:45 am]

BILLING CODE 6717-01-P